DEPARTMENT OF COMMERCE

International Trade Administration

A-570-848

Freshwater Crawfish Tail Meat from the People's Republic of China: Notice of Amended Final Results and Amended Order Pursuant to Final Court Decision

AGENCY: Import Administration, International Trade Administration, Department of Commerce.

SUMMARY: On December 29, 2005, the Court of International Trade (“CIT”) affirmed the Department's remand determination and entered judgment in Crawfish Processors Alliance v. United States of America, Slip Op. 05-166 (CIT Dec. 29, 2005) (“Judgment”), which challenged certain aspects of the Department of Commerce's (“the Department”) Final Results of Antidumping Duty Administrative Review, and Final Partial Rescission of Antidumping Duty Administrative Review of Freshwater Crawfish Tail Meat from the People's Republic of China, 67 Fed. Reg. 19,546 (April 22, 2002) (“99/00 Final Results”), and accompanying Issues and Decision Memorandum (“Decision Memo”). As explained below, in accordance with the order contained in the CIT's December 29, 2005, Judgment, the Department is amending the 99/00 Final Results to treat Jiangsu Hilong International Trade Co., Ltd. (Jiangsu Hilong) and Ningbo Nanlian Frozen Foods Company, Ltd. (Ningbo Nanlian) as unaffiliated, non-collapsed entities.

EFFECTIVE DATE: May 11, 2006.

FOR FURTHER INFORMATION CONTACT: Scot Fullerton, AD/CVD Operations, Office 9, Import Administration, U.S. Department of Commerce, 14th Street and Constitution Avenue, NW, Room 4003, Washington, DC 20230; telephone: (202) 482-1386.

SUPPLEMENTARY INFORMATION:

Background

The Department first collapsed Ningbo Nanlian and Jiangsu Hilong¹ in the 1997-1998 administrative review. Freshwater Crawfish Tail Meat from the People's Republic of China: Final Results of Administrative Antidumping Duty and New Shipper Reviews, and Final Rescission of New Shipper Review, 65 Fed. Reg. 20,948 (Apr. 19, 2000). The Department continued to find that Ningbo Nanlian and Jiangsu Hilong were a single entity in the administrative review covering the 1999-2000 period. See 99/00 Final Results and accompanying Decision Memo at Comment 20.

¹ Huaiyin Foreign Trade Corporation (5) became Jiangsu Hilong International Trading Company Ltd. on January 10, 2001.

On May 6, 2004, the CIT issued an order remanding the case to the Department and ordering the Department to explain why its findings warranted the collapsing of Jiangsu Hilong and Ningbo Nanlian. Crawfish Processors Alliance v. United States, Slip Op. 04-47 (CIT May 6, 2004) (“CPA Remand”). The Department submitted its Final Results of Redetermination Pursuant to Court Remand on November 2, 2004. See 99/00 Final Remand Results I.

On September 13, 2005, the CIT issued its ruling on the Department's remand determination again remanding the case to the Department. See Crawfish Processors Alliance v. United States of America, Slip Op. 05-123 (CIT Sept. 13, 2005) (“CPA Remand II”). Specifically, the CIT remanded the case for the Department to: (1)(a) Explain with specificity how the interactions between Jiangsu Hilong and Ningbo Nanlian indicate that one company has control over the other or both, especially how the invoices from Jiangsu Hilong to Hontex created a business relationship with Ningbo Nanlian during the period of review (POR), and (b) explain with specificity how Mr. Wei's contacts with Jiangsu Hilong and Ningbo Nanlian demonstrate control of either company on behalf of the other or control over both; or (c) if the Department is unable to provide substantial evidence supporting its collapsing decision, then the Department is instructed to treat Jiangsu Hilong and Ningbo Nanlian as unaffiliated entities, and assign separate company-specific antidumping duty margins to each using verified information on the record. See CPA Remand II.

In its remand determination, the Department reviewed the record evidence and completed its Draft Results of Determination Pursuant to Court Remand (“Draft Results”) on November 23, 2005, and released these Draft Results for comment on November 25, 2005. The Department requested that parties submit comments on the Draft Results by close of business on December 1, 2005. No comments were received. The Department submitted the Final Results of Remand to the CIT on December 9, 2005.

On December 29, 2005, the CIT affirmed the remand. No appeal to the United States Court of Appeals was filed.

Amendment to the Final Determination

Because there is now a final and conclusive court decision, effective as of the publication date of this notice, we are amending the 99/00 Final Results and establishing the following revised weighted-average dumping margins:

Freshwater Crawfish Tail Meat from the PRC
Manufacturer/Exporter | Weighted-Average Margin (Percent)
Ningbo Nanlian Frozen Foods Company, Ltd. | 62.51

The antidumping duty rate for respondent Ningbo Nanlian was unchanged from the 99/00 Final Results, as the rate in the 99/00 Final Results for the Ningbo Nanlian/Jiangsu Hilong single entity was based solely on Ningbo Nanlian's sales. Because the Department did not initiate a review of Jiangsu Hilong for the 99/00 period of review (no such review was requested by any party), but only reviewed the company's information as part of the Ningbo Nanlian/Jiansgu Hilong single entity, the Department cannot calculate a margin for Jiangsu Hilong as a separate entity in this segment of the proceeding. The Department will issue assessment instructions directly to U.S. Customs and Border Protection.

This notice is issued and published in accordance with sections 751(a)(1) and 777(i)(1) of the Tariff Act of 1930, as amended.

Dated: May 4, 2006.
David Spooner,
Assistant Secretary for Import Administration.

[FR Doc. E6-7232 Filed 5-10-06; 8:45 am]

BILLING CODE 3510-DS-S